DEPARTMENT OF LABOR

Employment and Training Administration

[TA-W-64,359]

Alcatel-Lucent, Plano, TX; Notice of Termination of Investigation

Pursuant to Section 221 of the Trade Act of 1974, as amended, an investigation was initiated on November 5, 2008 in response to a petition filed on behalf of workers of Alcatel-Lucent, Plano, Texas.

The petition regarding the investigation has been deemed invalid. The petition was signed by one dislocated worker. A petition filed by workers requires three signatures. Consequently, the investigation has been terminated.

Signed at Washington, DC, this 11th day of December 2008.
Linda G. Poole,
Certifying Officer, Division of Trade Adjustment Assistance.

[FR Doc. E8-29941 Filed 12-17-08; 8:45 am]

BILLING CODE 4510-FN-P